DEPARTMENT OF TRANSPORTATION

Federal Aviation Administration

14 CFR Part 71

[Docket No. FAA-2022-0482; Airspace Docket No. 21-AEA-18]

RIN 2120-AA66

Proposed Amendment and Establishment of United States Area Navigation (RNAV) Routes; Northeast United States

AGENCY: Federal Aviation Administration (FAA), DOT.

ACTION: Notice of proposed rulemaking (NPRM).

SUMMARY: This action proposes to amend five low altitude United States Area Navigation (RNAV) routes (T-routes), and establish two T-routes in support of the VHF Omnidirectional Range (VOR) Minimum Operational Network (MON) Program. The purpose is to enhance the efficiency of the National Airspace System (NAS) by transitioning from a ground-based to a satellite-based navigation system.

DATES: Comments must be received on or before June 27, 2022.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2022-0482; Airspace Docket No. 21-AEA-18 at the beginning of your comments. You may also submit comments through the internet at https://www.regulations.gov. FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV and improve the efficient flow of air traffic within the NAS by lessening the dependency on ground-based navigation.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0482; Airspace Docket No. 21-AEA-18) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0482; Airspace Docket No. 21-AEA-18.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/. You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 to amend low altitude RNAV T-routes, designated T-212, T-221, T-291, T-295, T-299, and establish T-443, and T-445 in the northeast United States to support the VOR MON Program.

T-212: T-212 currently extends between the RASHE, PA, FIX, and the Putnam, CT, (PUT) VOR/Distance Measuring Equipment (VOR/DME). The only proposed changes to T-212 are inserting the WLKES, PA, waypoint (WP) in place of the Wilkes Barre, PA, (LVZ) VOR and Tactical Air Navigational System (VORTAC); and inserting the PUTNM, CT, WP, in place of the Putnam, CT, VOR/DME. Navigation along T-212 is not affected by these changes.

T-221: T-221 currently extends between the MAZIE, PA, FIX, and the Binghamton, NY, (CFB) VOR/DME. This action would replace the Allentown, PA, (FJC) VORTAC with the EESTN, PA, WP.

T-291: T-291 currently extends between the LOUIE, MD, FIX, and the Albany, NY, (ALB) VORTAC. This proposal would move the start point south of the LOUIE FIX to the Harcum, VA, (HCM) VORTAC. The COLIN, VA, and the SHLBK, VA, WPs would be added between, Harcum and Louie. The BAABS, MD, WP would be moved 3 nautical miles (NM) northwest of its current position to ensure clearance from restricted area R-4001. The new GRACO, MD, FIX would be added between the LOUIE and BAABS WPs per request from air traffic control. The VINNY, PA, FIX would be added between the BAABS WP, and the Harrisburg, PA, VORTAC. The HYATT, PA, WP would replace the Milton, PA, (MIP) VORTAC. The LEDIE, NY, WP would be added between the LAAK, PA, FIX, and the Delancy, NY, (DNY) VOR/DME and the Delancy VOR/DME would be replaced by the DANZI, NY, WP. After the Albany, NY, (ALB) VORTAC, T-291 would be extended southeastward through the following added points: Barnes, MA, (BAF) VORTAC; PUTNM, CT, WP; PROVI, RI, WP; AVONN, RI, FIX; BUZRD, MA, WP; Martha's Vineyard, MA (MVY) VOR/DME; and Nantucket, MA, (ACK) VOR/DME. As amended, T-291 would extend between the Harcum, VA, VORTAC and the Nantucket, MA, VOR/DME.

T-291 would overlie VOR Federal airway V-33 from Harcum, VA, to the COLIN, VA WP. It would run adjacent to airway V-213 from COLIN, VA to the SHLBK, MD WP. It would then overlie airway V-93 to the GRACO, MD, FIX. After Albany, T-291 would turn southeast bound and overlie airway V-146 to Nantucket, MA.

T-295: T-295 currently extends between the LOUIE, MD, WP, and the Presque Isle, ME, (PQI) VOR/DME. This proposal would amend the route to begin south of LOUIE, MD, at the POORK, VA WP. The following WPs would be added between POORK, VA, and LOUIE, MD: HOUKY, VA (replaces the Hopewell, VA, (HPW) VORTAC); TAPPA, VA: COLIN, VA; and SHLBK, MD. The following modifications would be made to T-295 between the LOUIE FIX and the Wilkes-Barre, PA, (LVZ) VORTAC. The GRACO, MD, FIX would be added between the LOUIE FIX, and the BAABS, MD, WP. The BAABS WP would be moved 3 NM northwest of its current position. The Lancaster, PA, (LRP) VORTAC would be replaced by the HEXSN, PA, WP. The Wilkes-Barre, PA, (LVZ) VORTAC would be replaced by the WILKES, PA, WP. The Chester, MA, (CTR) VOR/DME would be added to the route between the SASHA, MA, FIX, and the KEYNN, NH, WP.

As amended, T-295 would extend between POORK, VA, and Presque Isle, ME. The amended route would overlie a portion of airway V-213 from Hopewell, VA to COLIN, VA. It would overlie portions of airway V-93 from SHLBK, MD, to the GRACO, MD, FIX.

T-299: T-299 currently extends between the UCREK, VA, WP, and the SCAPE, PA. FIX. This action proposes to amend the route by moving the start point southwest from the UCREK WP to the OBEPE, VA, FIX. In addition, T-299 would be extended northward from the SCAPE, PA, FIX, to the Albany, NY, (ALB) VORTAC. The following points would be added after the SCAPE FIX: Harrisburg, PA, (HAR) VORTAC; BOBSS, PA, FIX; East Texas, PA, (ETX) VOR/DME; EESTN, PA WP; POKTS, NY, WP; WEARD, NY, FIX; and Albany, NY, (ALB) VORTAC. As amended, T-299 would extend between OBEPE, VA, and Albany, NY. It would overlie a portion of airway V-377 from the SCAPE FIX to the Harrisburg VORTAC. It would also overlie portions of airway V-162 from the Harrisburg VORTAC to the EESTN, PA, WP (which will replace the Allentown, PA, (FJC) VORTAC). T-299 would overlie portions of airway V-489 from the POKTS WP, to the Albany VORTAC.

T-443: T-443 is a proposed new route that would extend between the OBWON, MD, WP, and the Solberg, NJ, (SBJ) VOR/DME. The route would overlie a portion of airway V-378 between the CLIPR, MD, FIX, and the MDENA, PA, WP. The MDENA WP would replace the Modena, PA, (MXE) VORTAC. T-443 would also overlie airway V-3 from the MDENA WP to the Solberg VOR/DME.

T-445: T-445 is a proposed new route that would extend between the Westminster, MD, (EMI) VORTAC, and the AIRCO, NY, FIX. T-445 would overlie a portion of airway V-265 between the Westminster VORTAC and the Harrisburg, PA, (HAR) VORTAC. It would also overlie a portion of airway V-31 from the Harrisburg VORTAC to the AIRCO, NY, FIX. In this route description, the LYKOM, PA, WP replaces the Williamsport, PA, (FQM) VOR/DME, and the STUBN, NY, WP replaces the Elmira, NY, (ULM) VOR/DME.

The full descriptions of the above routes are listed in “The Proposed Amendment” section, below.

United States RNAV T-routes are published in paragraph 6011 of FAA Order JO 7400.11F, dated August 10, 2021, and effective September 15, 2021, which is incorporated by reference in 14 CFR 71.1. The RNAV routes listed in this document would be subsequently published in the Order.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 14 CFR 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-212 RASHE, PA to PUTNM, CT [Amended]
RASHE, PA | FIX | (Lat. 40°40′36.04″ N, long. 077°38′38.94″ W)
Selinsgrove, PA (SEG) | VOR/DME | (Lat. 40°47′27.09″ N, long. 076°53′02.55″ W)
DIANO, PA | FIX | (Lat. 41°00′01.99″ N, long. 076°13′33.78″ W)
WLKES, PA | WP | (Lat. 41°16′22.57″ N, long. 075°41′21.60″ W)
LAAYK, PA | FIX | (Lat. 41°28′32.64″ N, long. 075°28′57.31″ W)
WEETS, NY | FIX | (Lat. 41°51′26.98″ N, long. 074°11′51.51″ W)
NELIE, CT | FIX | (Lat. 41°56′27.64″ N, long. 072°41′18.88″ W)
PUTNM, CT | WP | (Lat. 41°57′19.65″ N, long. 071°50′38.76″ W)
* * * * * * *
T-221 MAZIE, PA to Binghamton, NY (CFB) [Amended]
MAZIE, PA | FIX | (Lat. 40°19′19.55″ N, long. 075°06′35.28″ W)
EESTN, PA | WP | (Lat. 40°43′36.50″ N, long. 075°27′16.55″ W)
LAAYK, PA | FIX | (Lat. 41°28′32.64″ N, long. 075°28′57.31″ W)
Binghamton, NY (CFB) | VOR/DME | (Lat. 42°09′26.96″ N, long. 076°08′11.30″ W)
* * * * * * *
T-291 Harcum, VA (HCM) to Nantucket, MA (ACK) [Amended]
Harcum, VA (HCM) | VORTAC | (Lat. 37°26′55.18″ N, long. 076°42′40.87″ W)
COLIN, VA | WP | (Lat. 38°05′59.23″ N, long. 076°39′50.85″ W)
SHLBK, MD | WP | (Lat. 38°20′16.21″ N, long. 076°26′10.51″ W)
LOUIE, MD | FIX | (Lat. 38°36′44.33″ N, long. 076°18′04.37′ W)
GRACO, MD | FIX | (Lat. 38°56′29.81″ N, long. 076°11′59.22″ W)
BAABS, MD | WP | (Lat. 39°22′01.36″ N, long. 076°27′31.21″ W)
VINNY, PA | FIX | (Lat. 39°45′16.64″ N, long. 076°36′30.16″ W)
Harrisburg, PA (HAR) | VORTAC | (Lat. 40°18′08.06″ N, long. 077°04′10.41″ W)
Selinsgrove, PA (SEG) | VORTAC | (Lat. 40°47′27.09′ N, long. 076°53′02.55″ W)
HYATT, PA | WP | (Lat. 41°01′24.47″ N, long. 076°39′54.34″ W)
MEGSS, PA | FIX | (Lat. 41°11′13.26″ N, long. 076°12′41.02″ W)
LAAYK, PA | FIX | (Lat. 41°28′32.64″ N, long. 075°28′57.31″ W)
LEDIE, NY | WP | (Lat. 41°53′23.72″ N, long. 075°10′27.51″ W)
DANZI, NY | WP | (Lat. 42°10′41.86″ N, long. 074°57′24.19″ W)
Albany, NY (ALB) | VORTAC | (Lat. 42°44′50.21″ N, long. 073°48′11.46″ W)
Barnes, MA (BAF) | VORTAC | (Lat. 42°09′43.05″ N, long. 072°42′58.32″ W)
PUTNM, CT | WP | (Lat. 41°57′19.65″ N, long. 071°50′38.76″ W)
PROVI, RI | WP | (Lat. 41°43′25.46″ N, long. 071°25′54.17″ W)
AVONN, RI | FIX | (Lat. 41°38′09.30″ N, long. 071°12′26.15″ W)
BUZRD, MA | WP | (Lat. 41°32′45.88″ N, long. 070°57′50.69″ W)
Martha's Vineyard, MA (MVY) | VOR/DME | (Lat. 41°23′46.37″ N, long. 070°36′45.78″ W)
Nantucket, MA (ACK) | VOR/DME | (Lat. 41°16′54.79″ N, long. 070°01′36.16″ W)
* * * * * * *
T-295 POORK, VA to Presque Isle, ME (PQI) [AMEND]
POORK, VA | WP | (Lat. 36°34′11.34″ N, long. 077°35′21.39″ W)
HOUKY, VA | WP | (Lat. 37°19′55.98″ N, long. 077°07′57.63″ W)
TAPPA, VA | WP | (Lat. 37°58′12.66″ N, long. 076°50′40.62″ W)
COLIN, VA | WP | (Lat. 38°05′59.23″ N, long. 076°39′50.85″ W)
SHLBK, MD | WP | (Lat. 38°20′16.21″ N, long. 076°26′10.51″ W)
LOUIE, MD | FIX | (Lat. 38°36′44.33″ N, long. 076°18′04.37″ W)
GRACO, MD | FIX | (Lat. 38°56′29.81″ N, long. 076°11′59.22″ W)
BAABS, MD | WP | (Lat. 39°22′01.36″ N, long. 076°27′31.21″ W)
HEXSN, PA | WP | (Lat. 40°07′12.46″ N, long. 076°17′28.38″ W)
WLKES, PA | WP | (Lat. 41°16′22.57″ N, long. 075°41′21.60″ W)
LAAYK, PA | FIX | (Lat. 41°28′32.64″ N, long. 075°28′57.31″ W)
SAGES, NY | FIX | (Lat. 42°02′46.33″ N, long. 074°19′10.33″ W)
SASHA, MA | FIX | (Lat. 42°07′58.07″ N, long. 073°08′55.39″ W)
Chester, MA (CTR) | VOR/DME | (Lat. 42°17′28.75″ N, long. 072°56′57.82″ W)
KEYNN, NH | WP | (Lat. 42°47′30.99″ N, long. 072°17′30.35″ W)
Concord, NH (CON) | VOR/DME | (Lat. 43°13′11.23″ N, long. 071°34′31.63″ W)
Kennebunk, ME (ENE) | VOR/DME | (Lat. 43°25′32.42″ N, long. 070°36′48.69″ W)
BRNNS, ME | FIX | (Lat. 43°54′08.64″ N, long. 069°56′42.81″ W)
Bangor, ME (BGR) | VORTAC | (Lat. 44°50′30.46″ N, long. 068°52′26.27″ W)
LAUDS, ME | WP | (Lat. 45°25′10.13″ N, long. 068°12′26.96″ W)
HULTN, ME | WP | (Lat. 46°02′22.29″ N, long. 067°50′02.06″ W)
Presque Isle, ME (PQI) | VOR/DME | (Lat. 46°46′27.07″ N, long. 068°05′40.37″ W)
* * * * * * *
T-299 OBEPE, VA to Albany, NY (ALB) [Amended]
OBEPE, VA | FIX | (Lat. 37°54′23.03″ N, long. 079°13′21.04″ W)
UCREK, VA | WP | (Lat. 38°01′33.17″ N, long. 079°02′56.23″ W)
KAIJE, VA | WP | (Lat. 38°44′34.79″ N, long. 078°42′48.47″ W)
BAMMY, WV | WP | (Lat. 39°24′33.13″ N, long. 078°25′45.64″ W)
REEES, PA | WP | (Lat. 39°47′51.75″ N, long. 077°45′56.31″ W)
SCAPE, PA | FIX | (Lat. 39°56′41.76″ N, long. 077°32′12.33″ W)
Harrisburg, PA (HAR) | VORTAC | (Lat. 40°18′08.06″ N, long. 077°04′10.41″ W)
BOBSS, PA | FIX | (Lat. 40°17′41.78″ N, long. 076°45′00.73″ W)
East Texas, PA (ETX) | VOR/DME | (Lat. 40°34′51.74″ N, long. 075°41′02.51″ W)
EESTN, PA | WP | (Lat. 40°43′36.50″ N, long. 075°27′16.55″ W)
POKTS, NY | WP | (Lat. 41°24′35.17″ N, long. 074°35′30.36″ W)
WEARD, NY | FIX | (Lat. 41°45′43.63″ N, long. 074°31′30.07″ W)
Albany, NY (ALB) | VORTAC | (Lat. 42°44′50.20″ N, long. 073°48′11.47″ W)
* * * * * * *
T-443 OBWON, MD to Solberg, NJ (SBJ) [New]
OBWON, MD | WP | (Lat. 39°11′54.69″ N, long. 076°32′04.84″ W)
BAABS, MD | WP | (Lat. 39°22′01.36″ N, long. 076°27′31.21″ W)
CLIPR, MD | FIX | (Lat. 39°26′53.17″ N, long. 076°25′19.09″ W)
BELAY, MD | FIX | (Lat. 39°35′15.67″ N, long. 076°18′02.00″ W)
MDENA, PA | WP | (Lat. 39°55′05.39″ N, long. 075°40′14.40″ W)
Solberg, NJ (SBJ) | VOR/DME | (Lat. 40°34′58.96″ N, long. 074°44′30.45″ W)
* * * * * * *
T-445 Westminster, MD (EMI) to AIRCO, NY [New]
Westminster, MD (EMI) | VORTAC | (Lat. 39°29′42.03″ N, long. 076°58′42.86″ W)
Harrisburg, PA (HAR) | VORTAC | (Lat. 40°18′08.06″ N, long. 077°04′10.41″ W)
Selinsgrove, PA (SEG) | VOR/DME | (Lat. 40°47′27.09″ N, long. 076°53′02.55″ W)
LYKOM, PA | WP | (Lat. 41°20′18.75″ N, long. 076°46′30.30″ W)
STUBN, NY | WP | (Lat. 42°05′38.58″ N, long. 077°01′28.68″ W)
BEEPS, NY | FIX | (Lat. 42°49′13.26″ N, long. 076°59′04.84″ W)
Rochester, NY (ROC) | VOR/DME | (Lat. 43°07′04.65″ N, long. 077°40′22.06″ W)
AIRCO, NY | FIX | (Lat. 43°12′36.66″ N, long. 078°28′57.00″ W)

* * * * *

Issued in Washington, DC, on May 9, 2022.
Scott M. Rosenbloom,
Manager, Airspace Rules and Regulations.

[FR Doc. 2022-10314 Filed 5-12-22; 8:45 am]

BILLING CODE 4910-13-P